DEPARTMENT OF AGRICULTURE

Animal and Plant Health Inspection Service

[Docket No. APHIS-2022-0060]

Notice of Request for an Extension of Approval of an Information Collection; Tuberculosis

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the bovine and captive cervid tuberculosis regulations.

DATES: We will consider all comments that we receive on or before January 3, 2023.

ADDRESSES: You may submit comments by either of the following methods:

• Federal eRulemaking Portal: Go to www.regulations.gov. Enter APHIS-2022-0060 in the Search field. Select the Documents tab, then select the Comment button in the list of documents.

• Postal Mail/Commercial Delivery: Send your comment to Docket No. APHIS-2022-0060, Regulatory Analysis and Development, PPD, APHIS, Station 3A-03.8, 4700 River Road, Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 7997039 before coming.

FOR FURTHER INFORMATION CONTACT: For information on the domestic tuberculosis program, contact Dr. Mark Lyons, Veterinary Medical Officer, Veterinary Services, APHIS, 4700 River Road, Riverdale, MD 20737; (614) 592-7954; email: mark.a.lyons@usda.gov. For more detailed information on the information collection, contact Mr. Joseph Moxey, APHIS' Paperwork Reduction Act Coordinator; (301) 851-2483; email: joseph.moxey@usda.gov.

SUPPLEMENTARY INFORMATION:

Title: Tuberculosis.

OMB Control Number: 0579-0146.

Type of Request: Extension of approval of an information collection.

Abstract: Under the Animal Health Protection Act (7 U.S.C. 8301 et seq.), the Animal and Plant Health Inspection Service (APHIS) of the U.S. Department of Agriculture is authorized, among other things, to prohibit or restrict the interstate movement of animals and animal products to prevent the dissemination within the United States of animal diseases and pests, and for conducting programs to detect, control, and eradicate pests and diseases of livestock. As part of this mission, APHIS participates in a national cooperative State/Federal tuberculosis eradication program to eliminate bovine tuberculosis in cattle, bison, and captive cervids from the United States. This program is conducted under various States' authorities supplemented by Federal authorities regulating the interstate movement of affected animals.

The tuberculosis regulations contained in 9 CFR part 77 provide for several levels of State tuberculosis risk classifications, the creation of tuberculosis risk status zones within the same State, and the testing of regulated animals before they are permitted to move interstate. The requirements for establishing zones and testing regulated animals enhance the effectiveness of APHIS' tuberculosis eradication program by decreasing the likelihood that infected animals will be moved interstate or internationally, thus preventing the spread of tuberculosis. The requirements also provide mechanisms to help APHIS' Veterinary Services trace, locate, and eradicate regulated animals when outbreaks occur.

The regulations require information collection activities that enhance APHIS' ability to allow U.S. animal producers to manage bovine and captive cervid tuberculosis and compete in the world market of animal and animal product trade. These information collection activities are memoranda of understanding for zone recognition; epidemiological reviews; permits for movement of restricted animals; certificates for animals moved interstate; retention of movement certificates; tuberculosis management plans; accredited herd plans; approved herd plans; test records and results; affected herd data and herd testing results; wildlife risk surveys; monthly reports of tuberculosis eradication; reports of tuberculosis lesions; specimen submissions and collections; submissions by States of requests to APHIS for State or zone status; submissions by States of an annual report to APHIS for renewal of State or zone status; commuter herd agreements; depopulation and repopulation agreements; extension requests; tuberculosis infected herd field reports; investigations for evidence of tuberculosis; appraisals and indemnity claims; records of proceeds from animals sold to slaughter; owner participation in new tuberculosis tests; recordkeeping for approved feedlots; and application of shipping labels.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.89 hours per response.

Respondents: State animal health officials, producers and owners (including feedlot owners), accredited veterinarians, professional appraisers, and laboratory technicians.

Estimated annual number of respondents: 1,053.

Estimated annual number of responses per respondent: 60.

Estimated annual number of responses: 63,205.

Estimated total annual burden on respondents: 56,036 hours. (Due to averaging, the total annual burden hours may not equal the product of the annual number of responses multiplied by the reporting burden per response.)

All responses to this notice will be summarized and included in the request for OMB approval. All comments will also become a matter of public record.

Done in Washington, DC, this 26th day of October 2022.
Anthony Shea,
Administrator, Animal and Plant Health Inspection Service.

[FR Doc. 2022-23883 Filed 11-2-22; 8:45 am]

BILLING CODE 3410-34-P